DEPARTMENT OF JUSTICE

Antitrust Division

Joint Motion To Modify Final Judgment and United States' Memorandum in Support of Motion To Modify; United States v. Baroid Corp., et al.

Notice is hereby given that the United States and Diamond Products International (“DPI”) have filed a joint motion to modify the final judgment filed in a civil antitrust case, United States v. Baroid Corpation., et al. Civil Action No. 93-2621, in the United States District Court for the District of Columbia. The Department has consented to modification of the Judgment but has reserved the right to withdraw its consent if it determines that, based upon comments filed or other information received, consent to the modification is not in the public interest.

This case was filed on December 23, 1993, and alleged that the merger of Dresser Industries, Inc. (“Dresser”) and Baroid Corporation (“Baroid”) might substantially lessen competition in the United States in the manufacture and sale of two oil field service products, diamond drill bits and drilling fluids, in violation of section 7 of the Clayton Act. The Final Judgment was entered on April 12, 1994.

Under the Final Judgment, Dresser was required to divest Baroid's diamond bit business, which included all Baroid assets used in the United States to research, develop, test, manufacture, service, or market its diamond drill bits. Pursuant to the judgment, Dresser sold that business to a company then called International Superior Products, Inc., and now known as Diamond Products International (“DPI”).

Paragraph V.F. of the Final Judgment states that the purchaser of the divested diamond drill bit business may not sell that business to, or combine that business with the diamond bit business of, any of four named companies: Dresser (now part of Halliburton Company), Camco, Inc. (Now part of Schlumberger Ltd.), Baker Hughes, Inc., or Smith International, Inc, or any of their subsidiaries or affiliates. The joint motion proposes modifying the Final Judgment to eliminate the absolute prohibition or transactions involving Camco, Baker Hughes, or Smith and instead require DPI to give notice to the Department of any such proposed transactions. The Final Judgment would continue to bar DIP from selling its diamond drill bit business to, or combining that business with the diamond drill bit operations, of Dresser, the firm required by the Final Judgment to divest the diamond bit business in the final instance.

Copies of the Complaint and Judgment, the joint motion, and the United States' supporting memorandum are available for inspection in Room 215, Antitrust Division, U.S. Department of Justice, 325 7th St., NW, Washington, DC 20530 and at the Office of the Clerk of the United States District Court for the District of Columbia, Third Street and Constitution Avenue, NW, Washington, DC 20001. Copies of any of these materials may be obtained upon request and payment of a copying fee.

Comments to the Department of Justice and to the Court regarding the proposed modification of the Final Judgment are invited from members of the public. They should be addressed to Roger W. Fones, Chief, Transportation, Energy and Agriculture Section, Antitrust Division, U.S. Department of Justice, Suite 500, 325 7th Street, NW, Washington, DC 20530 (202-307-6351). Such comments must be received within 50 days.

Constance K. Robinson,
Director of Operations & Merger Enforcement, Antitrust Division.

[FR Doc. 00-9746 Filed 4-18-00; 8:45 am]

BILLING CODE 4410-01-M